DEPARTMENT OF HEALTH AND HUMAN SERVICES

Centers for Disease Control and Prevention

[30Day-18-17BAM]

Agency Forms Undergoing Paperwork Reduction Act Review

In accordance with the Paperwork Reduction Act of 1995, the Centers for Disease Control and Prevention (CDC) has submitted the information collection request titled Implementing the 6/18 Initiative: Case Studies to the Office of Management and Budget (OMB) for review and approval. CDC previously published a “Proposed Data Collection Submitted for Public Comment and Recommendations” notice on October 13, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Implementing the 6|18 Initiative: Case Studies—New—Office of the Director (OD), Centers for Disease Control and Prevention (CDC).

Background and Brief Description

Major trends in health care, such as alternative payment and delivery models, facilitate the delivery of greater comprehensive care and prevention. Public health departments have leveraged their resources to complement those of the health care sector, to impact population health.

In this context, CDC developed the CDC's 6|18 Initiative to provide health care purchasers, payers, and providers with rigorous evidence about high-burden health conditions and associated evidence-based interventions. With a focus on the greatest short-term health and potential cost impact (generally in less than five years), the evidence informs their coverage decisions.

The name “6|18” comes from the initial focus on six common, costly and preventable health conditions (tobacco use, high blood pressure, diabetes, asthma, healthcare-associated infections and unintended pregnancies) and 18 evidence-based interventions. For more information, please see http://www.cdc.gov/sixeighteen.

The 6|18 initiative links health care and public health by providing a shared focus across prevention interventions ranging from traditional clinical settings to care outside the clinical setting. Public health's strength in analyzing scientific evidence complements the purchaser, payer, and provider role of financing and delivering care.

Since public health-health care collaboration to improve population health is still not a standard practice, there are few or no case studies on public health-health care collaboration around increasing preventive service utilization. CDC intends to fill this gap through this data collection.

CDC and its partners provided technical assistance to 17 teams (i.e., from Medicaid and Public Health Agencies) from states, the District of Columbia, and a large city (hereafter, “states”), to support their implementation of the 6|18 Initiative's interventions. No data has been collected to date.

To document qualitative lessons learned related to the collaboration, CDC and its cooperative agreement sub-contractor, George Washington University, plan to conduct in-person and telephone semi-structured individual interviews with state Public Health Department and State Medicaid Agency officials.

Interview participants will have been directly involved in conceptualizing, planning, and/or implementing 6|18 Initiative-related activities, and will have participated in the cross-sector collaboration. CDC plans to engage up to 82 respondents (four to seven officials from each of the 17 state teams who participated in the 6|18 Initiative). The officials from each state team will be leadership and staff from public health agencies at the state, city, and tribal level. For each state, we will request interviews with: One Public Health Division Director, one to four Public Health Services Managers (one per health condition), one Medicaid Director, and one Medicaid Services Manager. When joining the 6|18 Initiative, each state selected one to four conditions from the list of 6|18 conditions, and assigned one public health manager to each condition.

CDC plans to administer the interviews from 2018 to 2021, to allow time for unanticipated delays; and to accommodate state team schedules, busy seasons, and holidays. All participants will speak in their official capacity as state public health department or Medicaid agency officials. Prior to granting public access to written products, CDC will provide participants the opportunity to review written products.

CDC anticipates using the interview findings: (1) To describe, disseminate, and scale best practices to participating and non-participating states, and (2) for program improvement of the CDC's 6|18 Initiative. CDC will disseminate findings via written products such as peer-reviewed manuscripts and in-depth written case studies. The written products, which will share lessons learned and effective approaches to collaboration, can inform and potentially accelerate related efforts by other state teams. In addition, 6|18 participants can use findings and written products to highlight their accomplishments to their stakeholders, such as their Medicaid leadership, and/or governors.

Participants will have a maximum estimated burden of one hour and 15 minutes: One hour for the interview, and fifteen minutes for any needed preparation. All interviews will be based on the same interview guide.

OMB approval is requested for three years. An annualized average of 29 interviews will be conducted per year. Participation is voluntary and respondents will not receive incentives for participation. There are no costs to respondents other than their time. The total estimated annualized burden hours are 38.

Estimated Annualized Burden Hours
Type of respondents | Form name | Number of respondents | Number of responses per respondent | Average burden per response (in hours)
State Public Health Director | Interview Guide | 6 | 1 | 75/60
State Public Health Manager | Interview Guide | 11 | 1 | 75/60
State Medicaid Director | Interview Guide | 6 | 1 | 75/60
State Medicaid Manager | Interview Guide | 6 | 1 | 75/60

Leroy A. Richardson,
Chief, Information Collection Review Office, Office of Scientific Integrity, Office of the Associate Director for Science, Office of the Director, Centers for Disease Control and Prevention.

[FR Doc. 2018-02205 Filed 2-2-18; 8:45 am]

BILLING CODE 4163-18-P